COMMODITY FUTURES TRADING COMMISSION

Reestablishment of the Technology Advisory Committee

AGENCY: Commodity Futures Trading Commission.

ACTION: Notice of Technology Advisory Committee reestablishment.

SUMMARY: The Commodity Futures Trading Commission (Commission) is publishing this notice to announce the reestablishment of the Technology Advisory Committee (TAC). The Commission has determined that reestablishment of the TAC is necessary and in the public's interest. No earlier than fifteen (15) days following the date of the publication of this notice, the TAC Charter will be filed with the Commission; the Senate Committee on Agriculture, Nutrition and Forestry; the House Committee on Agriculture; the Library of Congress; and the General Services Administration's Committee Management Secretariat.

ADDRESSES: Written comments should be submitted to the attention of Christopher Kirkpatrick, Secretary of the Commission, either electronically to secretary@cftc.gov or by mail to Commodity Futures Trading Commission, Three Lafayette Centre, 1155 21st Street NW., Washington, DC 20581. Please submit your comments using only one method and identify that you are commenting on the TAC's reestablishment.

FOR FURTHER INFORMATION CONTACT: Ted Serafini, Counsel and Policy Advisor, at 202-418-5972.

SUPPLEMENTARY INFORMATION: In accordance with the Federal Advisory Committee Act (FACA), 5 U.S.C. App. II, the Commission is publishing this notice to announce the reestablishment of the TAC. The Commission has determined that the reestablishment of the TAC is necessary and in the public interest. The objectives and scope of activities of the TAC are to conduct public meetings, to submit reports and recommendations to the Commission, and to otherwise assist the Commission in identifying and understanding how new developments in technology are being applied and utilized in the industry, and their impact on the operation of the markets. The TAC will allow the Commission to be an active participant in market innovation, explore the appropriate investment in technology, and advise the Commission on the need for strategies to implement rules and regulations to support the Commission's mission of ensuring the integrity of the markets. Meetings of the TAC are open to the public.

The TAC will operate for two years from the date of reestablishment unless, before the expiration of that time period, its charter is renewed in accordance with section 14(b)(1) of the FACA, or the Commission directs that the TAC terminate on an earlier date. A copy of the TAC reestablishment charter will be filed with the Commission; the Senate Committee on Agriculture, Nutrition and Forestry; the House Committee on Agriculture; the Library of Congress; and the General Services Administration's Committee Management Secretariat. A copy of the reestablishment charter will be posted on the Commission's Web site at www.cftc.gov.

Issued in Washington, DC, on September 26, 2014, by the Commission.
Christopher J. Kirkpatrick,
Secretary of the Commission.

[FR Doc. 2014-23355 Filed 9-30-14; 8:45 am]

BILLING CODE 6351-01-P